DEPARTMENT OF HOMELAND SECURITY

[Docket No. DHS-2024-0014]

Notice of Meeting; Homeland Security Academic Partnership Council

AGENCY: Office of Partnership and Engagement (OPE), U.S. Department of Homeland Security (DHS).

ACTION: Notice of open Federal advisory committee meeting.

SUMMARY: OPE is publishing this notice that the Homeland Security Academic Partnership Council (HSAPC) will meet virtually on Monday, June 3, 2024 from 2 p.m. EST to 3:30 p.m. EST. This meeting will be open to the public.

DATES: The meeting will take place from 2 p.m. EST to 3:30 p.m. EST on June 3, 2024. Please note that the meeting may end early if the HSAPC completes its business.

ADDRESSES: The HSAPC meeting will be held via Zoom. Members of the public interested in participating may do so by following the process outlined below. The public will remain in listen-only mode except during the public comment session. Members of the public may register to participate in this Council meeting via Zoom under the following procedures. Each individual must provide their full legal name and email address no later than 5 p.m. EST on Friday, May 31, 2024 to Patrese Roberts via email at HSAPC@HQ.DHS.GOV or via phone at 202-987-9802. Members of the public who have registered to participate will be provided the Zoom link, a copy of the agenda, and the two draft subcommittee reports prior to the start of the meeting. Written comments must be submitted no later than 5 p.m. EST on Friday, May 31, 2024. Comments must be identified by Docket No. DHS-2024-0014 and may be submitted by one of the following methods:

• Federal eRulemaking Portal: http://www.regulations.gov. Follow the instructions for submitting comments.

• Email: HSAPC@hq.dhs.gov. Include Docket No. DHS-2024-0014 in the subject line of the message.

Instructions: All submissions received must include the words “Department of Homeland Security” and “DHS-2024-0014,” the docket number for your comments. Comments received will be posted without alteration at http://www.regulations.gov including any personal information provided. You may wish to review the Privacy and Security Notice found via a link on the homepage of www.regulations.gov.

Docket: For access to the docket to read comments received by the Council, go to http://www.regulations.gov, search “DHS-2024-0014,” “Open Docket Folder” to view the comments.

FOR FURTHER INFORMATION CONTACT: Patrese Roberts, Alternate Designated Federal Officer of the Homeland Security Academic Partnership Council, U.S. Department of Homeland Security at HSAPC@hq.dhs.gov or 202-987-9802.

SUPPLEMENTARY INFORMATION: Notice of this meeting is given under section 10(a) of the Federal Advisory Committee Act (FACA), Public Law 92-463 (5 U.S.C. ch. 10), which requires all FACA committee meetings to be open to the public unless the President, or the head of the Agency to which the advisory committee reports, determines that a portion of the meeting requires closing it to the public in accordance with 5 U.S.C. 552b(c).

The HSAPC provides organizationally independent, strategic, timely, specific, and actionable recommendations to the Secretary on key issues at the intersection of education, academia, and the DHS mission.

The open session will include: (1) remarks from senior DHS leaders and (2) briefings, public comment, member deliberation, and voting on the two draft reports from the Foreign Malign Influence in Higher Education and Combatting Online Child Sexual Exploitation and Abuse Subcommittees. The HSAPC was tasked to create these two subcommittees on November 14, 2023. The taskings can be found on the HSAPC website at https://www.dhs.gov/hsapc.

Members of the public will remain in listen-only mode except during the public comment session. Members of the public may register to attend this HSAPC meeting via Zoom by sending your full legal name and email address to Patrese Roberts via email to HSAPC@hq.dhs.gov or via phone at 202-987-9802 no later than 5 p.m. EST on Friday, May 31, 2024. Members of the public who have registered to attend will be provided the Zoom link, agenda, and the two draft subcommittee reports prior to the start of the meeting. For more information about the HSAPC, please visit our website: https://www.dhs.gov/hsapc.

For information on services for individuals with disabilities, or to request special assistance, please email HSAPC@hq.dhs.gov no later than 5 p.m. EST on Wednesday, May 29, 2024 or call 202-987-9802. The HSAPC is committed to ensuring all participants have equal access regardless of disability status. If you require a reasonable accommodation due to a disability to fully participate, please contact Patrese Roberts at 202-987-9802 or HSAPC@hq.dhs.gov as soon as possible.

Patrese Roberts,
Alternate Designated Federal Officer, Homeland Security Academic Partnership Council, U.S. Department of Homeland Security.

[FR Doc. 2024-10868 Filed 5-16-24; 8:45 am]

BILLING CODE 9112-FN-P